DEPARTMENT OF COMMERCE

Foreign-Trade Zones Board

[Docket 15-2010]

Foreign-Trade Zone 133—Quad-Cities, Iowa/Illinois; Application for Expansion

An application has been submitted to the Foreign-Trade Zones Board (the Board) by the Quad-City Foreign Trade Zone, Inc., grantee of FTZ 133, requesting authority to expand the zone within the Davenport-Rock Island-Moline Customs and Border Protection port of entry. The application was submitted pursuant to the provisions of the Foreign-Trade Zones Act, as amended (19 U.S.C. 81a-81u), and the regulations of the Board (15 CFR part 400). It was formally filed on March 5, 2010.

FTZ 133 was approved on October 29, 1986 (Board Order 338, 51 FR 40238, 11/5/86). After a subsequent minor boundary modification was approved on June 27, 1997 (A(27f)-26-1997), the general-purpose zone currently consists of 23-acres within the River Cities Business Park, located at 200 East 90th Street, Davenport (Scott County), Iowa.

The applicant is now requesting authority to expand the existing site and to include four additional sites in the area: Existing Site 1—expand to include the entire River Cities Business Park (223 acres); Proposed Site 2 (33 acres)—within Rock Island Arsenal, located at 1775 East Street, Rock Island (Rock Island County), Illinois; Proposed Site 3 (55 acres)—warehouse complex owned by Modern Warehousing, LLC, located at 801 1st Street East, Milan (Rock Island County), Illinois; Proposed Site 4 (200 acres)—Eastern Iowa Industrial Center, located northeast of Interstate 80 and Highway 130, Davenport (Scott County), Iowa; and; Proposed Site 5 (187 acres)—Iowa Research Commerce & Technology Park, located northwest of Interstate 80 and Highway 61, Davenport (Scott County), Iowa. The sites will provide warehousing and distribution services to area businesses.

No specific manufacturing authority is being requested at this time. Such requests would be made to the Board on a case-by-case basis.

In accordance with the Board's regulations, Claudia Hausler of the FTZ staff is designated examiner to evaluate and analyze the facts and information presented in the application and case record and to report findings and recommendations to the Board.

Public comment is invited from interested parties. Submissions (original and 3 copies) shall be addressed to the Board's Executive Secretary at the address below. The closing period for their receipts is May 17, 2010. Rebuttal comments in response to material submitted during the foregoing period may be submitted during the subsequent 15-day period to June 1, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Claudia Hausler at Claudia.Hausler@trade.gov or 202-482-1379.

Dated: March 5, 2010.
Andrew McGilvray,
Executive Secretary.

[FR Doc. 2010-5852 Filed 3-16-10; 8:45 am]

BILLING CODE 3510-DS-P